DEPARTMENT OF ENERGY

Federal Energy Regulatory Commission

[Docket No. RP03-47-003]

Gulf South Pipeline Company, LP; Notice of Compliance Filing

November 26, 2003.

Take notice that on November 19, 2003, Gulf South Pipeline Company, LP (Gulf South) tendered for filing as part of its FERC Gas Tariff, Sixth Revised Volume No. 1, Substitute First Revised Sheet No. 2004, to become effective May 1, 2003.

On October 20, 2003 Gulf South filed tariff sheets to comply with the Commission's October 3, 2003, Order. Gulf South states that it has determined that section 13.12 was inadvertently deleted in its October 20, 2003, filing and is making this filing to correct this error.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00435 Filed 12-2-03; 8:45 am]

BILLING CODE 6717-01-P